NUCLEAR REGULATORY COMMISSION

[Docket No. 50-255]

Consumers Energy Company; Notice of Withdrawal of Application for Amendment to Facility Operating License

The U.S. Nuclear Regulatory Commission (the Commission) has granted the request of Consumers Energy Company (the licensee) to withdraw its August 28, 2000, application for proposed amendment to Facility Operating License No. DPR-20 for the Palisades Plant, located in Covert, Michigan.

The proposed amendment would have revised the date for implementing the Palisades Plant Improved Technical Specifications as established by Amendment No. 189, dated November 30, 1999. The implementation date would have been changed from “on or before October 31, 2000,” to “on or before December 31, 2000.” In its letter dated October 24, 2000, the licensee stated that Amendment No. 189 was implemented on October 24, 2000, and that the requested delay of implementing Amendment No. 189 was no longer needed. Therefore, the licensee requested that the amendment application be withdrawn.

The Commission had previously issued a Notice of Consideration of Issuance of Amendment published in the Federal Register on September 20, 2000 (65 FR 56949). However, by letter dated October 24, 2000, the licensee withdrew the proposed change.

For further details with respect to this action, see the application for amendment dated August 28, 2000, and the licensee's letter dated October 24, 2000, which withdrew the application for license amendment. Documents may be examined, and/or copied for a fee, at the NRC's Public Document Room, located at One White Flint North, 11555 Rockville Pike (first floor), Rockville, Maryland, and accessible electronically through the ADAMS Public Electronic Reading Room link at the NRC Web site (http://www.nrc.gov).

Dated at Rockville, Maryland, this 6th day of November 2000.
For the Nuclear Regulatory Commission.
Darl S. Hood,
Senior Project Manager, Section 1, Project Directorate III, Division of Licensing Project Management, Office of Nuclear Reactor Regulation.

[FR Doc. 00-29030 Filed 11-13-00; 8:45 am]

BILLING CODE 7590-01-P